DEPARTMENT OF DEFENSE

Office of the Secretary

Reserve Forces Policy Board; Notice of Federal Advisory Committee Meeting

AGENCY: Under Secretary of Defense for Personnel and Readiness, Reserve Forces Policy Board, Department of Defense.

ACTION: Notice of federal advisory committee meeting.

SUMMARY: The Department of Defense (DoD) is publishing this notice to announce that the following Federal Advisory Committee meeting of the Reserve Forces Policy Board (RFPB) will take place.

DATES: The RFPB will hold a meeting on Wednesday, December 12, 2018 from 8:55 a.m. to 3:50 p.m. The portion of the meeting from 8:55 a.m. to 1:20 p.m. will be closed to the public. The portion of the meeting from 1:35 p.m. to 3:50 p.m. will be open to the public.

ADDRESSES: The RFPB meeting address is the Pentagon, Room 3E863, Arlington, VA.

FOR FURTHER INFORMATION CONTACT: Alexander Sabol, (703) 681-0577 (Voice), 703-681-0002 (Facsimile), Alexander.J.Sabol.Civ@Mail.Mil (Email). Mailing address is Reserve Forces Policy Board, 5113 Leesburg Pike, Suite 601, Falls Church, VA 22041. Website: http://rfpb.defense.gov/. The most up-to-date changes to the meeting agenda can be found on the website.

SUPPLEMENTARY INFORMATION: Due to difficulties beyond the control of the Department of Defense (DoD) and the Designated Federal Officer, the Reserve Forces Policy Board was unable to provide public notification required by 41 CFR 102-3.150(a) concerning the meeting on December 12, 2018, of the Reserve Forces Policy Board. Accordingly, the Advisory Committee Management Officer for the DoD, pursuant to 41 CFR 102-3.150(b), waives the 15-calendar day notification requirement.

This meeting is being held under the provisions of the Federal Advisory Committee Act (FACA) (5 U.S.C., Appendix), the Government in the Sunshine Act (5 U.S.C. 552b), and 41 CFR 102-3.140 and 102-3.150.

Purpose of the Meeting: The purpose of the meeting is to obtain, review, and evaluate information related to strategies, policies, and practices designed to improve and enhance the capabilities, efficiency, and effectiveness of the Reserve Components.

Agenda: The RFPB will hold a meeting from 8:55 a.m. to 3:50 p.m. The portion of the meeting from 8:55 a.m. to 1:20 p.m. will be closed to the public and will consist of remarks to the RFPB from the following invited speakers: The Commander, U.S. Cyber Command will discuss the Cyber Command's Cyber Strategy which implements the National Defense Strategy priorities in and through cyberspace with the goal of protecting the Nation's critical infrastructure and defending the Department of Defense network infrastructure while integrating the Reserve Components as a Total Force; the Secretary of Defense will address key National Military Strategy challenges facing our Nation, priorities for adapting the force, and the use of the Reserve Components to overcome these challenges; The Adjutant General, California will discuss the recent California National Guard's Homeland Security and National Security Strategy operations issues with cyber security, immigration operations and the current California National Guard Ukrainian mission; and the Deputy Director for Global Integration and Current Operations, Integrated Operations Division, Joint Staff will discuss how the concept of Dynamic Force Employment from National Defense Strategy requires the Reserve Components to be ready to deploy without major buildup of forces and additional training time. The portion of the meeting from 1:35 p.m. to 3:50 p.m. will be open to the public and will consist of briefings from the following: Col Forrest Marion, USAFR (Ret) and Col John Hoffman, USMCR (Ret) will brief their published book: “Forging a Total Force—Evolution of the Guard and Reserve” in which they analyzed how the Nation's military drawdowns have historically caused the Nation to depend on its Guard and Reserve, detailing the issues policymakers are facing as they forge ahead with citizen-soldiers serving as an operational force; the Deputy Director, Materiel (Resource Evaluation) will discuss how the current fielding of equipment to the Reserve Components creates interoperability issues and requires Reserve Components to operate new equipment for the first time while deploying in theatre of operations; and the Chairman of the RFPB will discuss recommended priorities for the RFPB as they pertain to the Secretary of Defense's National Military Strategy and the anticipated implications these priorities may have on Active/Reserve Component force structure, readiness, and utilization.

Meeting Accessibility: Pursuant to section 10(a)(1) of the FACA and 41 CFR 102-3.140 through 102-3.165, and subject to the availability of space, the meeting is open to the public from 1:35 p.m. to 3:50 p.m. Seating is on a first-come, first-served basis. All members of the public who wish to attend the public meeting must contact Mr. Alex Sabol, the Designated Federal Officer, not later than 12:00 p.m. on Tuesday, December 11, 2018, as listed in the FOR FURTHER INFORMATION CONTACT section to make arrangements for a Pentagon escort, if necessary. Public attendees requiring escort should arrive at the Pentagon Metro Entrance at 12:45 p.m. to provide sufficient time to complete security screening to attend the beginning of the Open Meeting at 1:35 p.m. on December 12th. To complete the security screening, please be prepared to present two forms of identification. One must be a picture identification card. In accordance with section 10(d) of the FACA, 5 U.S.C. 552b(c), and 41 CFR 102-3.155, the DoD has determined that the portion of this meeting scheduled to occur from 8:45 a.m. to 1:20 p.m. will be closed to the public. Specifically, the Under Secretary of Defense (Personnel and Readiness), in coordination with the Department of Defense FACA Attorney, has determined in writing that this portion of the meeting will be closed to the public because it is likely to disclose classified matters covered by 5 U.S.C. 552b(c)(1).

Written Statements: Pursuant to section 10(a)(3) of the FACA and 41 CFR 102-3.105(j) and 102-3.140, interested persons may submit written statements to the RFPB about its approved agenda or at any time on the RFPB's mission. Written statements should be submitted to the RFPB's Designated Federal Officer at the address, email, or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the RFPB members before the meeting that is the subject of this notice. Please note that since the RFPB operates under the provisions of the FACA, all submitted comments and public presentations will be treated as public documents and will be made available for public inspection, including, but not limited to, being posted on the RFPB's website.

Dated: December 4, 2018.
Morgan E. Park,
Alternate OSD Federal Register Liaison Officer, Department of Defense.

[FR Doc. 2018-26632 Filed 12-7-18; 8:45 am]

BILLING CODE 5001-06-P